ENVIRONMENTAL PROTECTION AGENCY

[EPA-HQ-OPP-2006-0689; FRL-8088-7]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: Mike Mendelsohn, Biopesticides and Pollution Prevention Division (7511P), Office of Pesticide Programs, Environmental Protection Agency, 1200 Pennsylvania Ave., NW., Washington, DC 20460-0001; telephone number: (703) 308-8715; e-mail address: mendelsohn.mike@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2006-0689. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. EUP

EPA has issued the following EUPs:

524-EUP-97. Issuance. Monsanto Co., 800 North Lindbergh Blvd., St. Louis, MO 63167. This EUP allows the use of 165,700 lbs of corn seed containing the following plant-incorporated protectants (PIPs) in the amounts specified: 0.47 lbs of the Bacillus thuringiensis Cry1A.105 protein and the genetic material necessary for its production (vector PV-ZMIR245) in Event MON 89034 corn, 0.41 lbs of the Bacillus thuringiensis Cry2Ab2 protein and the genetic material necessary for its production (vector PV-ZMIR245) in Event MON 89034 corn, and 1.49 lbs of the Bacillus thuringiensis Cry3Bb1 protein and the genetic material necessary for its production (vector ZMIR39) in Event MON 88017 corn. This EUP allows the use of this seed on 1,356 acres MON 89034 corn; 363 acres MON 88017 corn; 617 acres MON 89034 x MON 88017 corn; and 461 acres non-Bt corn for 2006-2007, and 3,541 acres MON 89034 corn; 1,298 acres MON 88017 corn; 1,110 acres MON 89034 x MON 88017 corn; and 531 acres non-Bt corn for 2007-2008. Eight trial protocols will be conducted, including:

• Breeding and observation nursery.

• Inbred seed increase production.

• Line per se hybrid yield and herbicide tolerance trials.

• Insect efficacy trials.

• Product characterization and performance trials.

• Insect resistance management trials.

• Benefit assessment trials.

• Seed treatment trials.

The program is authorized only in the States of Alabama, Arizona, California, Colorado, Florida, Georgia, Hawaii, Idaho, Iowa, Illinois, Indiana, Kansas, Kentucky, Louisiana, Maryland, Michigan, Minnesota, Missouri, Mississippi, North Carolina, Nebraska, Ohio, Oregon, Pennsylvania, Puerto Rico, South Dakota, Tennessee, Texas, Washington, and Wisconsin. The EUP is effective from June 29, 2005 to June 30, 2008, along with associated activities such as collection of field data and harvesting and processing of seed after last planting.

Temporary and permanent exemptions from the requirement of a tolerance have been established for residues of the active ingredients in or on all corn commodities. One comment from a private citizen was received in response to the notice of receipt for this permit application, which was published in the Federal Register on May 26, 2006 (71 FR 30403) (FRL-8066-8). The private citizen indicated that she does not favor genetically engineered corn and expressed the viewpoint that the permittee should be required to request permission from neighbors prior to testing. The commenter also expressed concern about the mechanics of submitting comments via the http://www.regulations.gov site for the notice of receipt. The Agency understands the commenter's concerns and recognizes that some individuals believe that genetically modified crops and food should be banned completely. Nonetheless, under the Federal Insecticide, Fungicide, Rodenticide Act (FIFRA), the Agency is tasked with reviewing applications for EUPs for any pesticide, including PIPs, and granting such applications to the extent that the conditions of FIFRA section 5, and the regulations thereunder, have been met (subject to such terms and conditions as the Agency determines are warranted). In this instance, EPA has determined that the relevant statutory and regulatory conditions have been met. In addition, there is nothing in FIFRA or in the Agency's regulations enacted thereunder that compels, and EPA does not otherwise require, a permittee to notify neighbors prior to testing as suggested. Finally, the Agency understands some of the adjustments needed to use the new electronic docketing system. One tip that should help in the future is that when commenting on notices of receipt, commenters should either choose “Notices” or “All Document Types” in the “Document Type” box. If “Proposed Rules,” “Rules,” or “Other” are selected, “Notices” will not be selected in the search.

67979-EUP-4. Amendment/Extension. Syngenta Seeds, Inc., P.O. Box 12257, 3054 East Cornwallis Rd., Research Triangle Park, NC 27709-2257. This EUP allows the use of 50,420 lbs MIR604 and Bt11 corn seed containing the following PIPs in the amounts specified: A combined 0.0454 lbs of modified Cry3A Bacillus thuringiensis protein and the genetic material necessary for its production (via elements of pZM26) in Event MIR604 corn (SYN-IR6Ø4-5) and Bt11 Bacillus thuringiensis Cry1Ab delta-endotoxin and the genetic material necessary for its production (plasmid vector pZ01502) in corn. This EUP allows the use of this seed on 2,300 acres MIR604 modified Cry3A corn, 670 acres Bt11 Cry1Ab corn, 965 acres MIR604 x Bt11 corn, and 2,959 acres non-Bt corn. Five trial protocols will be conducted, including:

• Breeding and observation.

• Efficacy evaluation.

• Agronomic observation.

• Inbred and hybrid production.

• Regulatory studies.

The program is authorized only in the States of California, Colorado, Florida, Hawaii, Iowa, Illinois, Indiana, Kansas, Kentucky, Maryland, Michigan, Minnesota, Missouri, Mississippi, New Mexico, Nebraska, New York, Ohio, Pennsylvania, Puerto Rico, South Dakota, Texas, Virginia, and Wisconsin. The EUP is effective from March 2, 2006 to February 28, 2007, along with associated activities such as collection of field data and harvesting and processing of seed after last planting.

Temporary and permanent exemptions from the requirement of a tolerance have been established for residues of the active ingredients in or on all corn commodities. Three identical comments from a private citizen and one comment from a grower association were received in response to the notice of receipt for this permit application, which was published in the Federal Register on January 25, 2006 (71 FR 4141) (FRL-7757-7). The private citizen indicated that she does not favor genetically engineered corn, opposed testing under this EUP except in fully enclosed greenhouses, and expressed the viewpoint that the permittee should be required to request permission from neighbors prior to testing. The Agency understands the commenter's concerns and recognizes that some individuals believe that genetically modified crops and food should be banned completely. Nonetheless, under FIFRA, the Agency is tasked with reviewing applications for EUPs for any pesticide, including PIPs, and granting such applications to the extent that the conditions of FIFRA section 5, and the regulations thereunder, have been met (subject to such terms and conditions as the Agency determines are warranted). In this instance, EPA has determined that the relevant statutory and regulatory conditions have been met. In addition, there is nothing in FIFRA or in the Agency's regulations enacted thereunder that compels, and EPA does not otherwise require, a permittee to notify neighbors prior to testing as suggested. Finally although certain containment provisions were required per the experimental program, the Agency did not require testing to be conducted in fully enclosed greenhouses because such a requirement was not necessary to mitigate risk. In contrast to the comments from the private citizen, the grower association requested that the Agency expeditiously grant the EUP and stated their position that agricultural biotechnology in many cases helps reduce the use of chemicals, improves profits, and preserves the environment. They also mentioned the benefit to insect resistance management that the material being tested under this EUP is intended to bring.

Authority: 7 U.S.C. 136c.

List of Subjects

Environmental protection, Experimental use permits.

Dated: January 12, 2007.
Janet L. Andersen,
Director, Biopesticides and Pollution Prevention Division, Office of Pesticide Programs.

[FR Doc. E7-988 Filed 1-23-07; 8:45 am]

BILLING CODE 6560-50-S